DEPARTMENT OF TRANSPORTATION

Federal Aviation Administration

14 CFR Part 39

[Docket No. FAA-2006-26595; Directorate Identifier 2006-NM-208-AD; Amendment 39-14998; AD 2007-06-17]

RIN 2120-AA64

Airworthiness Directives; Airbus Model A320 Series Airplanes

AGENCY: Federal Aviation Administration (FAA), Department of Transportation (DOT).

ACTION: Final rule.

SUMMARY: The FAA is adopting a new airworthiness directive (AD) for certain Airbus Model A320 series airplanes. This AD requires replacing the carbon fiber reinforced plastic (CFRP) actuator fittings of the rudder with aluminum actuator fittings and doing related investigative and corrective actions. This AD results from rupture of a CFRP actuator fitting during maintenance. We are issuing this AD to prevent rupture of a rudder actuator fitting, which could result in reduced controllability of the airplane.

DATES: This AD becomes effective April 27, 2007.

The Director of the Federal Register approved the incorporation by reference of a certain publication listed in the AD as of April 27, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A320 series airplanes. That NPRM was published in the Federal Register on December 15, 2006 (71 FR 75432). That NPRM proposed to require replacing the carbon fiber reinforced plastic (CFRP) actuator fittings of the rudder with aluminum actuator fittings and doing related investigative and corrective actions.

Comments

We provided the public the opportunity to participate in the development of this AD. We have considered the comments received.

Support for the NPRM

Airbus supports the NPRM.

Request To Revise Discussion Section

In the Discussion section of the NPRM, we stated that investigation revealed that the CFRP actuator fittings cannot sustain limit loads resulting from ground gust conditions due to design of the fitting. Airbus requests that we revise that statement to clarify that the CFRP actuator fittings “on the rudder side” cannot sustain limit “compression” loads resulting from ground gust conditions due to design of the fitting. We agree with Airbus' statement. However, we have not changed the AD in this regard, since the Discussion section is not retained in the final rule.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the change described previously. We have determined that this change will neither increase the economic burden on any operator nor increase the scope of the AD.

Costs of Compliance

This AD affects about 38 airplanes of U.S. registry. The required action takes about 100 work hours per airplane, at an average labor rate of $80 per work hour. Required parts cost about $6,310 per airplane. Based on these figures, the estimated cost of the AD for U.S. operators is $543,780, or $14,310 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-06-17 Airbus: Amendment 39-14998. Docket No. FAA-2006-26595; Directorate Identifier 2006-NM-208-AD.

Effective Date

(a) This AD becomes effective April 27, 2007.

Affected ADs

(b) None.

Applicability

(c) This AD applies to Airbus Model A320 series airplanes, certificated in any category; except those on which Airbus Modification 21733 or 21999 has been incorporated in production.

Unsafe Condition

(d) This AD results from rupture of a carbon fiber reinforced plastic (CFRP) actuator fitting during maintenance. We are issuing this AD to prevent rupture of a rudder actuator fitting, which could result in reduced controllability of the airplane.

Compliance

(e) You are responsible for having the actions required by this AD performed within the compliance times specified, unless the actions have already been done.

Replacement of Rudder Actuator Fittings

(f) Within 9,000 flight cycles or 12,000 flight hours, or 60 months after the effective date of this AD, whichever occurs first: Replace all of the CFRP actuator fittings of the rudder with aluminum actuator fittings and do all the related investigative actions, by accomplishing all of the actions specified in Accomplishment Instructions of Airbus Service Bulletin A320-55-1030, dated March 6, 2006. Do any applicable corrective actions before further flight in accordance with the Accomplishment Instructions of the service bulletin.

Alternative Methods of Compliance (AMOCs)

(g)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(h) European Aviation Safety Agency airworthiness directive 2006-0262, dated August 25, 2006, also addresses the subject of this AD.

Material Incorporated by Reference

(i) You must use Airbus Service Bulletin A320-55-1030, dated March 6, 2006, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 13, 2007.
Ali Bahrami,
Manager, Transport Airplane Directorate, Aircraft Certification Service.

[FR Doc. E7-5213 Filed 3-22-07; 8:45 am]

BILLING CODE 4910-13-P